DEPARTMENT OF ENERGY

Federal Energy Regulatory Commission

Combined Notice of Filings #1

Take notice that the Commission received the following exempt wholesale generator filings:

Docket Numbers: EG25-99-000.

Applicants: Regis Falfurrias LLC.

Description: Regis Falfurrias LLC submits Notice of Self-Certification of Exempt Wholesale Generator Status.

Filed Date: 2/3/25.

Accession Number: 20250203-5224.

Comment Date: 5 p.m. ET 2/24/25.

Docket Numbers: EG25-100-000.

Applicants: Regis Medina LLC.

Description: Regis Medina LLC submits Notice of Self-Certification of Exempt Wholesale Generator Status.

Filed Date: 2/3/25.

Accession Number: 20250203-5225.

Comment Date: 5 p.m. ET 2/24/25.

Docket Numbers: EG25-101-000.

Applicants: Regis Sinton Pirate LLC.

Description: Regis Sinton Pirate LLC submits Notice of Self-Certification of Exempt Wholesale Generator Status.

Filed Date: 2/3/25.

Accession Number: 20250203-5228.

Comment Date: 5 p.m. ET 2/24/25.

Take notice that the Commission received the following Complaints and Compliance filings in EL Dockets:

Docket Numbers: EL25-53-000.

Applicants: RGP Bowman Solar, LLC v. Georgia Power Company.

Description: Complaint of RGP Bowman Solar, LLC v. Georgia Power Company.

Filed Date: 1/31/25.

Accession Number: 20250131-5158.

Comment Date: 5 p.m. ET 3/3/25.

Take notice that the Commission received the following electric rate filings:

Docket Numbers: ER10-566-006; ER10-2774-008; ER11-3917-006; ER24-2897-002; ER24-2898-002.

Applicants: Mordor ES2 LLC, Mordor ES1 LLC, Mojave Solar LLC, Arizona Solar One LLC, Coso Geothermal Power Holdings, LLC.

Description: Notice of Non-Material Change in Status of Coso Geothermal Power Holdings, LLC, et al.

Filed Date: 1/31/25.

Accession Number: 20250131-5542.

Comment Date: 5 p.m. ET 2/21/25.

Docket Numbers: ER10-1285-013; ER18-1150-011; ER22-2187-004; ER22-2188-005.

Applicants: Northwest Ohio IA, LLC, Northwest Ohio Solar, LLC, Trishe Wind Ohio, LLC, Craven County Wood Energy Limited Partnership.

Description: Notice of Non-Material Change in Status of Craven County Wood Energy Limited Partnership, et al.

Filed Date: 1/31/25.

Accession Number: 20250131-5526.

Comment Date: 5 p.m. ET 2/21/25.

Docket Numbers: ER10-1915-013; ER10-1963-013; ER10-3058-006; ER10-3059-006; ER10-3065-006; ER10-3066-006; ER20-2060-003.

Applicants: MPH Rockaway Peakers, LLC, Edgewood Energy, LLC, Shoreham Energy, LLC, Equus Power I, L.P., Pinelawn Power, LLC, Jamaica Bay Peaking Facility, LLC, Bayswater Peaking Facility, LLC.

Description: Notice of Non-Material Change in Status of Bayswater Peaking Facility, LLC, et al.

Filed Date: 1/31/25.

Accession Number: 20250131-5527.

Comment Date: 5 p.m. ET 2/21/25.

Docket Numbers: ER10-2405-017; ER10-2414-022; ER19-1044-007.

Applicants: Telocaset Wind Power Partners, LLC, Old Trail Wind Farm, LLC, High Prairie Wind Farm II, LLC.

Description: Notice of Change in Status of High Prairie Wind Farm II, LLC, et al.

Filed Date: 1/31/25.

Accession Number: 20250131-5539.

Comment Date: 5 p.m. ET 2/21/25.

Docket Numbers: ER10-2822-027; ER10-2942-006; ER16-1250-021.

Applicants: Avangrid Renewables, LLC, Elk River Windfarm, LLC, Atlantic Renewable Projects II LLC.

Description: Notice of Change in Status of Atlantic Renewable Projects II LLC, et al.

Filed Date: 1/31/25.

Accession Number: 20250131-5525.

Comment Date: 5 p.m. ET 2/21/25.

Docket Numbers: ER10-2881-044; ER10-2882-043; ER10-2883-041; ER10-2884-041; ER16-2509.-012; ER17-2400-013; ER17-2401-013; ER17-2403-013; ER17-2404-013.

Applicants: SP Sandhills Solar, LLC, SP Pawpaw Solar, LLC, SP Decatur Parkway Solar, LLC, SP Butler Solar, LLC, Rutherford Farm, LLC, Georgia Power Company, Mississippi Power Company, Southern Power Company, Alabama Power Company.

Description: Notice of Non-Material Change in Status of Alabama Power Company, et al.

Filed Date: 1/31/25.

Accession Number: 20250131-5537.

Comment Date: 5 p.m. ET 2/21/25.

Docket Numbers: ER10-2906-022; ER19-1716-010.

Applicants: Morgan Stanley Energy Structuring, L.L.C., Morgan Stanley Capital Group Inc.

Description: Notice of Change in Status of Morgan Stanley Capital Group Inc., et al.

Filed Date: 1/31/25.

Accession Number: 20250131-5532.

Comment Date: 5 p.m. ET 2/21/25.

Docket Numbers: ER12-1934-016; ER10-1882-015; ER12-1933-018.

Applicants: Interstate Power and Light Company, Wisconsin River Power Company, Wisconsin Power and Light Company.

Description: Notice of Change in Status of Wisconsin Power and Light Company, et al.

Filed Date: 1/31/25.

Accession Number: 20250131-5546.

Comment Date: 5 p.m. ET 2/21/25.

Docket Numbers: ER14-1818-028.

Applicants: Boston Energy Trading and Marketing LLC.

Description: Notice of Change in Status of Boston Energy Trading and Marketing LLC.

Filed Date: 1/29/25.

Accession Number: 20250129-5264.

Comment Date: 5 p.m. ET 2/19/25.

Docket Numbers: ER15-1494-005; ER10-1403-003; ER13-1793-018; ER21-9-010; ER21-86-010; ER21-88-010; ER22-541-003; ER22-542-003; ER22-543-004; ER22-544-003; ER22-545-003; ER24-750-004; ER24-1980-003; ER24-1981-003; ER24-1983-003.

Applicants: West Warwick Energy Storage 3 LLC, West Warwick Energy Storage 2 LLC, West Warwick Energy Storage 1 LLC, Town Hill Energy Storage 1 LLC, NSF Chaumont Site 5 LLC, Bracewell LLP, NSF Chaumont Site 4 LLC, Bracewell LLP,NSF Chaumont Site 3 LLC, Bracewell LLP, NSF Chaumont Site 2 LLC, Bracewell LLP,NSF Chaumont Site 1 LLC, Bracewell LLP, Orange County Energy Storage 3 LLC, Orange County Energy Storage 2 LLC, Henrietta D Energy Storage LLC, Hazle Spindle, LLC, Stephentown Regulation Services LLC, Convergent Energy and Power Inc.

Description: Notice of Change in Status of Convergent Energy and Power LP, et al.

Filed Date: 1/31/25.

Accession Number: 20250131-5540.

Comment Date: 5 p.m. ET 2/21/25.

Docket Numbers: ER16-2368-002; ER12-1329-010; ER22-191-001.

Applicants: Tidal Energy Marketing (U.S.) L.L.C., Wildcat Wind Farm I, LLC, New Creek Wind LLC.

Description: Notice of Non-Material Change in Status of New Creek Wind LLC, et al.

Filed Date: 1/31/25.

Accession Number: 20250131-5524.

Comment Date: 5 p.m. ET 2/21/25.

Docket Numbers: ER17-923-003.

Applicants: Ashley Energy LLC.

Description: Notice of Non-Material Change in Status of Ashley Energy LLC.

Filed Date: 1/31/25.

Accession Number: 20250131-5520.

Comment Date: 5 p.m. ET 2/21/25.

Docket Numbers: ER17-1931-012; ER14-594-023; ER14-867-009; ER14-868-010; ER17-1930-012; ER17-1932-012; ER20-649-009.

Applicants: AEP Energy Partners, Inc., Southwestern Electric Power Company, Public Service Company of Oklahoma, AEP Retail Energy Partners, AEP Energy, Inc., Ohio Power Company, AEP Texas Inc.

Description: Notice of Change in Status of AEP Texas Inc., et al.

Filed Date: 1/31/25.

Accession Number: 20250131-5521.

Comment Date: 5 p.m. ET 2/21/25.

Docket Numbers: ER18-140-016.

Applicants: Lackawanna Energy Center LLC.

Description: Notice of Change in Status of Lackawanna Energy Center LLC.

Filed Date: 1/31/25.

Accession Number: 20250131-5535.

Comment Date: 5 p.m. ET 2/21/25.

Docket Numbers: ER19-2822-001; ER15-1065-004; ER15-1676-004; ER19-2460-002; ER20-1014-002; ER20-1015-002; ER20-2458-002; ER21-285-002; ER23-2813-002; ER24-1386-001.

Applicants: Bartonsville Energy Facility, LLC, Castle Solar, LLC, Sigurd Solar LLC, Hunter Solar LLC, Cove Mountain Solar 2, LLC, Cove Mountain Solar, LLC, DWW Solar II, LLC, Balko Wind Transmission, LLC, Balko Wind, LLC, Airport Solar LLC.

Description: Notice of Change in Status of Airport Solar LLC, et al.

Filed Date: 1/31/25.

Accession Number: 20250131-5518.

Comment Date: 5 p.m. ET 2/21/25.

Docket Numbers: ER20-59-009; ER10-2201-011; ER10-2331-077; ER10-2756-015; ER13-291-010.

Applicants: EnergyMark, LLC, Griffith Energy LLC, J.P. Morgan Ventures Energy Corporation, Marina Energy, LLC, AZ Solar 1, LLC.

Description: Notice of Change in Status of AZ Solar 1, LLC, et al.

Filed Date: 1/31/25.

Accession Number: 20250131-5543.

Comment Date: 5 p.m. ET 2/21/25.

Docket Numbers: ER20-391-011; ER24-72-001; ER24-1275-001; ER24-2857-001.

Applicants: Aron Energy Prepay 47 LLC, Aron Energy Prepay 34 LLC, Aron Energy Prepay 29 LLC, J. Aron & Company LLC.

Description: Notice of Non-Material Change in Status of J. Aron & Company LLC, et al.

Filed Date: 1/31/25.

Accession Number: 20250131-5522.

Comment Date: 5 p.m. ET 2/21/25.

Docket Numbers: ER20-681-012.

Applicants: Tri-State Generation and Transmission Association, Inc.

Description: Notice of Change in Status of Tri-State Generation and Transmission Association, Inc.

Filed Date: 1/31/25.

Accession Number: 20250131-5533.

Comment Date: 5 p.m. ET 2/21/25.

Docket Numbers: ER20-2176-002; ER20-2177-002; ER23-1810-001; ER23-1811-002.

Applicants: Sol InfraCo MT1, LLC, Indian Creek Solar Farm LLC, Helios 5 MT, LLC, LA3 West Baton Rouge, LLC.

Description: Notice of Non-Material Change in Status of LA3 West Baton Rouge, LLC, et al.

Filed Date: 1/31/25.

Accession Number: 20250131-5536.

Comment Date: 5 p.m. ET 2/21/25.

Docket Numbers: ER21-203-004.

Applicants: Baltimore Gas and Electric Company, PJM Interconnection, L.L.C.

Description: Compliance filing: Baltimore Gas and Electric Company submits tariff filing per 35: Baltimore Gas and Elec Co Order No. 864 Clean-Up Revisions in ER21-203 to be effective 6/1/2020.

Filed Date: 2/4/25.

Accession Number: 20250204-5017.

Comment Date: 5 p.m. ET 2/25/25.

Docket Numbers: ER21-2712-003.

Applicants: Heartland Generation Ltd.

Description: Notice of Change in Status of Heartland Generation Ltd.

Filed Date: 1/31/25.

Accession Number: 20250131-5529.

Comment Date: 5 p.m. ET 2/21/25.

Docket Numbers: ER22-2784-006; ER21-632-003; ER22-2827-004; ER23-108-002; ER23-2967-002.

Applicants: Toms River Net Meter Solar, LLC, MD Solar 2, LLC, Bluegrass Solar, LLC, Toms River Merchant Solar, LLC, MN8 Energy Marketing LLC.

Description: Notice of Non-Material Change in Status of MN8 Energy Marketing LLC et al.

Filed Date: 1/31/25.

Accession Number: 20250131-5530.

Comment Date: 5 p.m. ET 2/21/25.

Docket Numbers: ER23-2091-003.

Applicants: Goleta Energy Storage, LLC.

Description: Notice of Non-Material Change in Status of Goleta Energy Storage, LLC.

Filed Date: 1/31/25.

Accession Number: 20250131-5541.

Comment Date: 5 p.m. ET 2/21/25.

Docket Numbers: ER23-2895-003.

Applicants: Hardin Solar Energy II LLC.

Description: Notice of Change in Status of Hardin Solar Energy II LLC, et al.

Filed Date: 1/31/25.

Accession Number: 20250131-5544.

Comment Date: 5 p.m. ET 2/21/25.

Docket Numbers: ER24-2833-002.

Applicants: Silver Peak Solar, LLC.

Description: Notice of Non-Material Change in Status of Silver Peak Solar, LLC.

Filed Date: 1/31/25.

Accession Number: 20250131-5523.

Comment Date: 5 p.m. ET 2/21/25.

Docket Numbers: ER25-500-001.

Applicants: Scatter Wash Energy Storage LLC.

Description: Notice of Change in Status of Scatter Wash Energy Storage LLC under ER25-500.

Filed Date: 1/31/25.

Accession Number: 20250131-5531.

Comment Date: 5 p.m. ET 2/21/25.

The filings are accessible in the Commission's eLibrary system (https://elibrary.ferc.gov/idmws/search/fercgensearch.asp) by querying the docket number.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

The Commission's Office of Public Participation (OPP) supports meaningful public engagement and participation in Commission proceedings. OPP can help members of the public, including landowners, local communities, Tribal members and others, access publicly available information and navigate Commission processes. For public inquiries and assistance with making filings such as interventions, comments, or requests for rehearing, the public is encouraged to contact OPP at (202) 502-6595 or OPP@ferc.gov.

Dated: February 4, 2025.
Carlos D. Clay,
Deputy Secretary.

[FR Doc. 2025-02437 Filed 2-10-25; 8:45 am]

BILLING CODE 6717-01-P